DEPARTMENT OF HEALTH AND HUMAN SERVICES

Administration for Children and Families

[OMB 0970-0196]

Submission for OMB Review; Multistate Financial Institution Data Match With Federally Assisted State Transmitted Levy

AGENCY: Office of Child Support Enforcement, Administration for Children and Families, HHS.

ACTION: Request for public comment.

SUMMARY: The Administration for Children and Families' (ACF) Office of Child Support Enforcement (OCSE) is requesting a 3-year extension of the currently approved Multistate Financial Institution Data Match with Federally Assisted State Transmitted Levy (MSFIDM/FAST Levy) (current OMB approval expires 1/31/2021).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: State child support enforcement agencies are statutorily required to enter into data matching agreements with financial institutions doing business in their state to locate obligors' accounts. OCSE operates the MSFIDM program through the Federal Parent Locator Service (FPLS) and facilitates the required data match between state child support agencies and financial institutions doing business in multiple states. State child support enforcement agencies use the data match outcomes to fulfill a statutory requirement to seize an obligor's assets to satisfy overdue child support payments.

OCSE also operates FAST Levy, which is an automated application within the FPLS to exchange electronic lien/levy information securely and efficiently. State child support enforcement agencies and multistate financial institutions (MSFIs) use FAST Levy to seize financial assets more quickly and efficiently.

Respondents: MSFIs and state child support agencies.

Annual Burden Estimates
Instrument | Annual number of respondents | Annual number of responses per respondent | Average annual burden hours per response | Annual burden hours
Financial Data Match Record Specifications: Match File Upload/Download: Portal Users | 184 | 4 | .083 | 61.1
Election Form | 15 | 1 | .5 | 7.5
FAST Levy Response Withhold Record Specifications: Financial Institutions | 1 | 1 | 1,716 | 1,716.0
FAST Levy Request Withhold Record Specifications: State Child Support Agencies | 1 | 1 | 1,610 | 1,610.0

Estimated Total Annual Burden Hours: 3,394.6.

Authority: 42 U.S.C. 652(l), 42 U.S.C. 666(a)(2) and (c)(1)(G)(ii), 42 U.S.C. 666(a)(17)(A), 42 U.S.C. 652(a)(7), and 45 CFR 303.7(a)(5).

Mary B. Jones,
ACF/OPRE Certifying Officer.

[FR Doc. 2020-24008 Filed 10-28-20; 8:45 am]

BILLING CODE 4184-41-P